DEPARTMENT OF ENERGY

Federal Energy Regulatory Commission

Combined Notice of Filings #1

Take notice that the Commission received the following electric rate filings:

Docket Numbers: ER11-2780-015.

Applicants: Safe Harbor Water Power Corporation.

Description: Notice of Change in Status of Safe Harbor Water Power Corporation.

Filed Date: 9/9/13.

Accession Number: 20130909-5420.

Comments Due: 5 p.m. ET 9/30/13.

Docket Numbers: ER11-4649-001.

Applicants: PacifiCorp.

Description: BPA ASC Filing for FY 2014-2015 to be effective N/A.

Filed Date: 8/14/13.

Accession Number: 20130814-5103.

Comments Due: 5 p.m. ET 9/18/13.

Docket Numbers: ER13-2146-001.

Applicants: Wabash Valley Power Association, Inc.

Description: Wabash Valley Power Association, Inc. submits Amendments to Rate Schedules—Amended Filing to be effective 9/15/2013.

Filed Date: 9/10/13.

Accession Number: 20130910-5119.

Docket Numbers: ER13-2364-000.

Applicants: PacifiCorp.

Description: PacifiCorp submits OATT Order No. 764 & 764-A Compliance Filing to be effective 11/12/2013.

Filed Date: 9/10/13.

Accession Number: 20130910-5081.

Comments Due: 5 p.m. ET 10/1/13.

Docket Numbers: ER13-2365-000.

Applicants: Tucson Electric Power Company.

Description: UNSE Interconnection Agreement to be effective 11/11/2013.

Filed Date: 9/10/13.

Accession Number: 20130910-5120.

Comments Due: 5 p.m. ET 10/1/13.

Docket Numbers: ER13-2366-000.

Applicants: Cogentrix of Alamosa, LLC.

Description: First Revised MBR to be effective 11/9/2013.

Filed Date: 9/10/13.

Accession Number: 20130910-5142.

Comments Due: 5 p.m. ET 10/1/13.

Docket Numbers: ER13-2367-000.

Applicants: Raven Power Marketing LLC.

Description: Revised Market-Based Rate Tariff to be effective 9/11/2013.

Filed Date: 9/10/13.

Accession Number: 20130910-5149.

Comments Due: 5 p.m. ET 10/1/13.

Docket Numbers: ER13-2368-000.

Applicants: Pacific Gas and Electric Company.

Description: Notice of Termination for the Green Volts SGIA, WDT SA No. 34 Volume No. 4 of Pacific Gas and Electric Company.

Filed Date: 9/10/13.

Accession Number: 20130910-5168.

Comments Due: 5 p.m. ET 10/1/13.

Docket Numbers: ER13-2369-000.

Applicants: PJM Interconnection, L.L.C.

Description: PJM Interconnection, L.L.C. submits Notice of Cancellation of PJM Service Agreement No. 3346 to be effective 9/1/2013.

Filed Date: 9/11/13.

Accession Number: 20130911-5035.

Comments Due: 5 p.m. ET 10/2/13.

Docket Numbers: ER13-2370-000.

Applicants: PacifiCorp.

Description: PacifiCorp submits BPA Two-way Operation and Maintenance Agreement 4th Revised to be effective 11/11/2013.

Filed Date: 9/11/13.

Accession Number: 20130911-5053.

Comments Due: 5 p.m. ET 10/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2013.
Nathaniel J. Davis, Sr.,
Deputy Secretary.

[FR Doc. 2013-22937 Filed 9-19-13; 8:45 am]

BILLING CODE 6717-01-P